DEPARTMENT OF COMMERCE

National Oceanic and Atmospheric Administration

50 CFR Part 622

[Docket No. 160302174-6999-02]

RIN 0648-BF81

Fisheries of the Caribbean, Gulf of Mexico, and South Atlantic; Dolphin and Wahoo Fishery Off the Atlantic States; Regulatory Amendment 1

AGENCY: National Marine Fisheries Service (NMFS), National Oceanic and Atmospheric Administration (NOAA), Commerce.

ACTION: Stay of final rule.

SUMMARY: In accordance with the memorandum of January 20, 2017, from the Assistant to the President and Chief of Staff, entitled “Regulatory Freeze Pending Review,” published in the Federal Register on January 24, 2017 (the Memorandum), this action stays the final rule NMFS published on December 30, 2016 in order to delay its effective date.

DATES: Effective January 31, 2017, the final rule amending 50 CFR part 622, that published on December 30, 2016, at 81 FR 96388, is stayed until March 21, 2017.

SUPPLEMENTARY INFORMATION: On December 30, 2016, NMFS published this final rule to implement Regulatory Amendment 1 for the Fishery Management Plan for the Dolphin and Wahoo Fishery off the Atlantic States, as prepared and submitted by the South Atlantic Fishery Management Council. This final rule establishes a commercial trip limit for Atlantic dolphin for vessels with a Federal commercial permit for Atlantic dolphin and wahoo. The purpose of this final rule is to reduce the chance of an in-season closure of the dolphin commercial sector as a result of the annual catch limit being reached during the fishing year, and to reduce the severity of economic or social impacts caused by these closures.

On January 20, 2017, the White House issued a memo instructing Federal agencies to temporarily postpone the effective date for 60 days after January 20, 2017, of any regulations or guidance documents that have published in the Federal Register but not yet taken effect, for the purpose of “reviewing questions of fact, law, and policy they raise.” Because its effective date has already passed, we are enacting this stay of the rule published on December 30, 2016, at 81 FR 96388 (see DATES above) until March 21, 2017.

List of Subjects in 50 CFR Part 622

Commercial, Dolphin, Fisheries, Fishing, Trip limits.

Dated: January 26, 2017.
Alan D. Risenhoover,
Acting Deputy Assistant Administrator for Regulatory Programs, National Marine Fisheries Service.

For the reasons stated in the preamble, 50 CFR part 622 is amended as follows:

PART 622—FISHERIES OF THE CARIBBEAN, GULF OF MEXICO, AND SOUTH ATLANTIC

1. The authority citation for part 622 continues to read as follows:

Authority: 16 U.S.C. 1801 et seq.

§ 622.278 [Amended]

2. In § 622.278, paragraph (a) is stayed until March 21, 2017.

[FR Doc. 2017-02057 Filed 1-30-17; 8:45 am]

BILLING CODE 3510-22-P